Title 3—

The President

Proclamation 9220 of December 12, 2014

Bill of Rights Day, 2014

By the President of the United States of America

A Proclamation

For more than two centuries, our Nation has been shaped by courageous women and men who have dared to raise their voices and work to safeguard the blessings of liberty and justice. In the face of tyranny, early patriots stood up against an empire and proclaimed the independence of a new Nation, declaring that we are all created equal, endowed by our Creator with unalienable rights. To secure these rights, they fought a war and enshrined these truths into our Constitution. The product of a fierce debate and great compromise, our founding charter was a remarkable yet imperfect document. It provided the foundation for a society built on freedom and democracy, but essential questions—including those of race and gender—were left unresolved. Yet before it was fully ratified, our Founding Fathers began working to refine its text, an early milestone in our unending journey to form a more perfect Union.

Ratified on December 15, 1791, the Bill of Rights secured our most fundamental freedoms. These first 10 Constitutional Amendments protect our rights to protest, practice our faiths, and hold our Government accountable. They guarantee justice under the law, allow for the dissemination of new ideas, and create the opportunity for those left out of our charter to fight to expand its promise. In times of war and peace, and through waves of depression and prosperity, these tenets have not only endured, but they have strengthened our Nation and served as an example to all who seek freedom, fairness, equality, and dignity around the world.

On the anniversary of the Bill of Rights, we reflect on the blessings of freedom we enjoy today, and we are reminded that our work to foster a more free, more fair, and more just society is never truly done. Guided by these sacred principles, we continue striving to make our country a place where our daughters' voices are valued just as much as our sons'; where due process of law is afforded to all people, regardless of skin color; and where the individual liberties that we cherish empower every American to pursue their dreams and achieve their own full measure of happiness.

Our fidelity to these timeless ideals binds us together as a Nation. As we celebrate Bill of Rights Day, let us recommit to the values that define us as a people and continue our work to broaden democracy's reach by strengthening the freedoms with which we have been endowed.

NOW, THEREFORE, I, BARACK OBAMA, President of the United States of America, by virtue of the authority vested in me by the Constitution and the laws of the United States, do hereby proclaim December 15, 2014, as Bill of Rights Day. I call upon the people of the United States to mark this observance with appropriate ceremonies and activities.

IN WITNESS WHEREOF, I have hereunto set my hand this twelfth day of December, in the year of our Lord two thousand fourteen, and of the Independence of the United States of America the two hundred and thirty-ninth.

[FR Doc. 2014-29722

Filed 12-16-14; 11:15 am]

Billing code 3295-F5